DEPARTMENT OF TRANSPORTATION

Federal Aviation Administration

14 CFR Part 71

Planned Modification of the Lambert-St. Louis International Airport Class B Airspace Area; MO

AGENCY: Federal Aviation Administration (FAA), DOT.

ACTION: Proposed rule; notice of public meetings.

SUMMARY: This document announces two fact-finding informal airspace meetings to solicit information from airspace users, and others, concerning a proposal to modify the Class B airspace area at the Lambert-St. Louis International Airport terminal area, St. Louis, Missouri. The proposed modifications are a result of the new runway (11/29) project underway at Lambert-St. Louis International Airport. Additionally, the proposed modifications are intended to enhance traffic flow management and ensure that all instrument procedures are contained within Class B airspace. The FAA is holding these meetings to provide interested parties an opportunity to present recommendations and comments on the proposal. All comments received during these meetings will be considered prior to any issuance of a notice of proposed rulemaking.

DATES: These informal airspace meetings will be held on Wednesday, October 19, 2005, from 4 p.m.-6 p.m. and 7 p.m.-9 p.m.; and Thursday, October 20, 2005, from 7 p.m.-9 p.m. Comments must be received on or before October 27, 2005.

ADDRESSES: On Wednesday, October 19, 2005, the meetings will be held at the Chesterfield City Hall, 690 Chesterfield Parkway West, Chesterfield, MO 63017. On Thursday, October 20, 2005, the meeting will be held at the Holiday Inn-Collinsville, 1000 Eastport Drive, Collinsville, IL 62234.

Comments: Send comments on the proposal to: David Sapadin, Manager, Airspace and Procedures, by e-mail at david.m.sapadin@faa.gov or by fax to (847) 294-7457.

FOR FURTHER INFORMATION CONTACT: Mr. Greg Barrett, St. Louis TRACON (T-25), 22 Research Court, St. Charles, MO, 63304; telephone: (314) 890-1040.

SUPPLEMENTARY INFORMATION:

Meeting Procedures

(a) These meetings will be informal in nature and will be conducted by one or more representatives of the FAA Central Region. A representative from the FAA will present a formal briefing on the planned modification of the Class B airspace area at the Lambert-St. Louis International Airport. Participants will be given an opportunity to deliver comments or make a presentation. Only comments concerning the plan to modify the Lambert-St. Louis International Airport, Class B airspace area will be accepted.

(b) These meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded.

Agenda for the Meetings

—Sign-in.

—Presentation of Meeting Procedures.

—FAA explanation of the proposed Class B modifications.

—Public Presentations and Discussions.

—Written comment turn-in.

—Closing Comments.

Issued in Washington, DC, August 16, 2005.
Edith V. Parish,
Acting Manager, Airspace and Rules.

[FR Doc. 05-16743 Filed 8-22-05; 8:45 am]

BILLING CODE 4910-13-P